DEPARTMENT OF TRANSPORTATION

Federal Highway Administration

Environmental Impact Statement: Peoria, Marshall, Putnam, and Bureau Counties, IL

AGENCY: Federal Highway Administration (FHWA), Department of Transportation (DOT).

ACTION: Notice of intent.

SUMMARY: The FHWA is issuing this notice to advise the public that an Environmental Impact Statement (EIS) will be prepared for expanding Illinois 29 to a four-lane highway. The proposed project will extend from Illinois 6 in Peoria County north to I-180 in Bureau County.

FOR FURTHER INFORMATION CONTACT:

Norman R. Stoner, P.E., Division Administrator, Federal Highway Administration, 3250 Executive Park Drive, Springfield, Illinois 62703, Phone: (217) 492-4600

Joseph E. Crowe, P.E., District Engineer, Illinois Department of Transportation, District 4, 401 Main Street, Peoria, Illinois 61602-1111, Telephone: (309) 671-3333

SUPPLEMENTARY INFORMATION: The FHWA, in cooperation with the Illinois Department of Transportation, will prepare an Environmental Impact Statement (EIS) on a proposal to improve existing Illinois 29 to a four-lane highway from Illinois 6 in Peoria County north to I-180 in Bureau County. The approximately 35-mile long project corridor is located west of and parallel to the Illinois River. The proposal is being considered to improve north-south highway access west of the Illinois River, enhance travel efficiency, and support economic development in the region. Alternatives under consideration include: (1) The No-Build Alternative, (2) improvements to the existing highway, and (3) possible bypasses at Chillicothe, Sparland, Henry and Putnam.

Alignment studies will determine one preferred alignment location and address the type of facility and preliminary interchange geometrics. Engineering and environmental conditions will be addressed in order to determine an alignment that meets the transportation needs of the region while minimizing the impacts to the environment. Potentially affected resources include agricultural land, archaeological sites, wetlands, woodlands, natural areas, State Conservation Areas, a nature preserve, historic structures, and residential and commercial property. Preliminary measures to minimize harm, probable construction cost estimates and estimated right of way requirements will be developed as part of the study.

The scoping process undertaken for this project will include distribution of a scoping informational packet, coordination with appropriate Federal, State, and local agencies, and review sessions as needed. An informational scoping packet may be obtained from one of the contact people listed above.

To ensure that the full range of issues related to this proposed action are addressed, and all substantive issues are identified, public involvement activities will be conducted as part of the study. Public information meetings, local government meetings, and newsletters will provide opportunities for public involvement. A public hearing will be held at the time that the Draft EIS is made available for comment. The project's Draft EIS will be available for public and agency review prior to the public hearing. The time and location of the public information meeting and public hearing will be announced in local newspapers. Comments or questions concerning this proposed action and the Draft EIS should be directed to FHWA or the Illinois Department of Transportation at the addresses provided above.

(Catalog of Federal Domestic Assistance Program Number 20.205, Highway Planning and Construction. The regulations implementing Executive Order 12372 regarding intergovernmental consultation on Federal programs and activities apply to this program.)

Issued on: July 18, 2002.
J.D. Stevenson,
Environmental Programs Engineer, Springfield, Illinois.

[FR Doc. 02-18666 Filed 7-23-02; 8:45 am]

BILLING CODE 4910-22-M